DEPARTMENT OF JUSTICE

National Institute of Corrections

Solicitation for a Cooperative Agreement—improving Community Responses to Women Offenders; Training and Technical Assistance to Three Local Jurisdictions

AGENCY: National Institute of Corrections, Department of Justice.

ACTION: Solicitation for a cooperative agreement.

SUMMARY: The Department of Justice (DOJ), National Institute of Corrections (NIC), announces the availability of funds in FY 2001 for a cooperative agreement to fund the Project “Improving Community Responses to Women Offenders; Training and Technical Assistance to Three Local Jurisdictions.” NIC will award one cooperative agreement to provide intensive assistance (site coordination, training and technical assistance) to three local jurisdictions interested in developing policies and practices that increase the rates of successful completion of community supervision for women who are pretrial defendants or sentenced offenders. NIC commits to providing assistance for two full years to each of the three jurisdictions selected in the current fiscal year (FY 2001). Up to $200,000 is available for the first twelve months of the two-year project. Based on successful provision of services in the first project period, a continuation award will be made to the successful applicant for this solicitation for the second year. Two hundred thousand is budgeted in FY 2002 for the second twelve-month phase of the project.

This solicitation is for the organization that will work with NIC to deliver services to three jurisdictions. There will be a separate program announcement to which local jurisdictions will respond and apply for participation in the two-year project.

A cooperative agreement is a form of assistance relationship through which the National Institute of Corrections is substantially involved during the performance of the award. An award is made to an organization that will, in concert with the Institute, meet the objectives of the solicitation. No funds are transferred to state or local governments.

NIC Experience: For ten years the NIC Community Corrections Division has worked with jurisdictions to increase the success of women offenders supervised in the community through the Intermediate Sanctions for Women Offenders (ISWO) Project. The thirteen jurisdictions that have participated in the ISWO include counties and states, both urban and rural, ranging in population from under 200,000 to over five million. The goals of these projects were to work collaboratively with sites to (1) develop sound information on current sentencing practices and the risk, needs and life circumstances of the women offenders; and (2) use the information and experience of policy team member to develop policies and concrete action steps for implementation of desired changes in the ranges of intermediate sanctions targeted for women offenders in the thirteen jurisdictions.

NIC worked with jurisdictions to accomplish these goals through a systems planning process with two critical characteristics: it was undertaken by a team of policy officials from the criminal justice system, human services, and the community; and it was supported by analysis of information about women offenders and the criminal justice practices and programs, from arrest through sentencing and disposition, which affect them. As jurisdictions engaged the work, it became clear that few had any significant data on women offenders in the community, and most jurisdictions were making decisions about them based on untested assumptions and anecdotal evidence. While the sites varied in their ability and willingness to fully engage in policy development in a systems context, they all reaped benefits from their work (e.g., increased the number and type of intermediate sanctions for women offenders, improved the gender-responsiveness of existing options, provided extensive training on women offenders, and greatly increased the system's understanding of the needs of women offenders).

In the last four years of the ISWO project, NIC focused on local jurisdictions with populations of over 500,000. The intent was to test whether NIC assistance could improve sanctioning responses for significant numbers of women. As a result of this last cycle, NIC also chose to focus more attention on early (pre-trial) decisions regarding women defendants and on the roles of jails, courts, pretrial services, probation and human/community services in providing better information and more effective options at the front end of the system. The last three jurisdictions were Cook County, IL; Hampden County, MA; and Hamilton County,OH. A draft report titled, Intermediate Sanctions for Women Offenders; Project Overview and Analysis 1991-1999, provides a more complete history of the project. It is available in draft form from the NIC Information Center, telephone: 1-800-877-1461. Request Accession #15530.

Project Premises: The current solicitation is based on (1) NIC's experience with the ISWO and its evolution to a local system project focused on both early decision points and development of more purposeful pretrial and sentencing options; and (2) the following premises regarding the need for assistance to improve community responses to women in the criminal justice system:

• Women commit largely non-violent, property and drug offenses and are good candidates for managing their risk to public safety in the community. They are at high risk of reoffending for “low stakes” crimes. They receive little effective treatment during early experiences of involvement with the criminal justice system.

• It is reasonable to expect that the design of criminal justice system responses for women will continue to hold them accountable for their offenses while improving their chances of success under community supervision.

• Mandatory sentencing for non-violent, drug offenses has resulted in large numbers of women serving longer periods of time in correctional facilities.

• Women defendants present high rates of co-occurring (substance abuse and mental illness) disorders; frequently the mental health issues go undiagnosed and unaddressed.

• Women's distinct pathways to criminality and the realities of their lives (particularly child care responsibilities, abuse histories, and economic marginality) require supervision and treatment approaches which are gender responsive.

• A systemic problem solving approach offers jurisdictions an opportunity to both (a) shape policy and practice which will impact success rates in the community in the short term, and (b) build capacity for longer-term development and monitoring of criminal justice policies and practices affecting women defendants/offenders.

• Criminal justice agencies must work with the community and human services to marshal the resources and services required for a comprehensive and effective response to the complexity of issues facing women defendants/offenders.

Purpose: The National Institute of Corrections is seeking applications for a cooperative agreement that has the following purpose: to provide site coordination, training and technical assistance to three local jurisdictions for the first twelve months of a two year project whose primary goal is to increase the rates of successful completion of community supervision for women defendants and offenders.

The recipient of this cooperative agreement award will have as the target audience for assistance a policy group or team of key criminal justice decision makers, human services managers, community leaders and public and private corrections managers.

The primary outcomes for the two year project are:

• The development in each jurisdiction of a clear vision and goals for improved community responses to women defendants/offenders, and implementation of specific changes in policy and practice in two or three strategic areas and/or the development of detailed work plans for implementation in those areas.

• A report describing the accomplishments of each jurisdiction and the lessons learned from the project.

The primary outcomes for the first twelve months are:

• Jurisdictions, operating as policy teams of high level officials, corrections and human service managers and community members, will engage the first twelve months of a collaborative, system-wide, problem solving process aimed at the development of improved policy and practice in two or three priority areas.

• Each jurisdiction will complete decision mapping of its criminal justice system responses to women defendants/offenders, including assembling readily available information on: the number and characteristics of women at key decision points from arrest through community supervision and release (aggregate and trend data).

• Jurisdictions will design and initiate data collection and analysis strategies focused on specific concerns, i.e., the primary problem areas (“change targets”) identified by the policy team. The strategies may include design of a profile study of a specific sub-population of women offenders related to one of the problem areas chosen by the policy team.

• Policy officials will gain specific knowledge regarding the factors associated with women's criminal involvement, key aspects of gender-responsive treatment and management in corrections, and options for effective sanctioning and intervention (best practices).

Specific outputs of the twelve-month project will include: Development of a program announcement and marketing strategy for local jurisdictions; site visits to selected applicant jurisdictions and site selection in conjunction with the NIC Project manager (NIC will make final site selections); a seminar opportunity for all policy team members from each jurisdiction; and monthly visits to jurisdictions by site coordinators to guide and support the policy team's work.

Application Requirements: Applicants must prepare a proposal that describes their plan to address the project purpose and outcomes. The plan must include goals and objectives, methodology, deliverables, management plan, an overall project budget for the full two years, and a budget and budget narrative for the first ten to twelve month phase. Applicants must identify their key project staff and the relevant expertise of each, and address the manner in which they would perform all tasks in collaboration with the NIC Project Manager. Proposals are limited to twenty-five double-spaced pages in length, not including resumes, other addenda, and SF-424 forms. Please note that the Standard Form 424, Application for Federal Assistance, submitted with the proposal must contain the cover sheet, budget, budget narrative, assurances and management plan for the FY 2001 funded portion only, for a maximum of $180,000. The proposal budget should not include the costs of air and train travel associated with site coordination, training and technical assistance; because NIC will make available an additional $20,000 for project travel at government rates in an account managed by the NIC Project Monitor and closely coordinated with the cooperative agreement project director. All required forms and instructions for their completion may be downloaded from the NIC website: http://www.nicic.org.

Authority: Public Law 93-415.

Funds Available: Project funds are limited to $180,000 for both direct and indirect costs for the first twelve months of the two year project, and a $20,000 supplement for air and train tickets. A supplemental award of $180,000 (plus additional funds for government rate travel) will be made in FY 2002 subject to the availability of funds and successful completion of Phase I. NIC is committed to funding the full two year project and project activity must be completed within 24 months of the date of the award. Funds may only be used for activities that are linked to the desired outcomes of the project. This project will be a collaborative venture with the NIC Community Corrections Division.

All products from this funding effort will be in public domain and available to interested agencies through the National Institute of Corrections.

Deadline for Receipt of Applications: Applications must be received by 4 p.m. on Friday, March 30, 2001. They should be addressed to: Director, National Institute of Corrections, 320 First Street, NW., Room 5007, Washington, DC 20534. Hand delivered applications can be brought to 500 First Street, NW., Washington, DC 20534. The security desk will call Bobbi Tinsley at (202) 307-3106, and press 0 for pickup.

Addresses and Further Information: Requests for the application kit, which consists of copies of this announcement and the required forms, should be downloaded from the NIC website: http://www.nicic.org. (Click on “Cooperative Agreements.”) The report, “Intermediate Sanctions for Women Offenders, Project Overview and Analysis 1991-1999” can be ordered from the NIC Information Center at 1-800-877-1461. Request accession #15530. If it is necessary to request a hard copy, please call Judy Evens at 1-800-995-6423, extension 4-4222 or email her at jevens@bop.gov. All technical and/or programming questions concerning this announcement should be directed to Phyllis Modley at the above address or by calling (800) 995-6423 or (202) 307-3106, extension 4-0099, or by email via pmodley@bop.gov.

Eligible Applicants: An eligible applicant is any state or general unit of local government, public or private agency, educational institution, organization, team or individual with the requisite skills to successfully meet the outcome objectives of the project.

Review Considerations: Applications received under this announcement will be subjected to an NIC three to five member Peer Review Process.

Number of Awards: One (1).

Executive Order 12372: Project is not subject to the provisions of this Executive Order.

NIC Application Number: 01C02. This number should appear as a reference line in the cover letter and also in box 11 of Standard Form 424.

The Catalog of Federal Domestic Assistance number is: 16.602.

Dated: February 12, 2001.
Morris L. Thigpen,
Director, National Institute of Corrections.

[FR Doc. 01-4075 Filed 2-16-01; 8:45 am]

BILLING CODE 4410-36-M